DEPARTMENT OF AGRICULTURE

Forest Service

Bridger-Teton Resource Advisory Committee

AGENCY: Forest Service, USDA.

ACTION: Notice of meeting.

SUMMARY: The Bridger-Teton Resource Advisory Committee will meet in Cokeville, Wyoming. The Committee is authorized under the Secure Rural Schools and Community Self-Determination Act (Pub. L. 112-141) (the Act) and operates in compliance with the Federal Advisory Committee Act. The purpose of the Committee is to improve collaborative relationships and to provide advice and recommendations to the Forest Service concerning projects and funding consistent with the Title II of the Act. The meeting is open to the public. The purpose of the meeting is to review and recommend projects authorized under Title II of the Act.

DATES: The meeting will be held Monday September 17, 2012 at 6 p.m.

ADDRESSES: The meeting will be held at the Cokeville Town Hall, in the Town Council Conference Room. The Town Hall is located at 110 Pine St, Cokeville WY 83114. Written comments may be submitted as described under Supplementary Information. All comments, including names and addresses when provided, are placed in the record and are available for public inspection and copying. The public may inspect comments received at the Greys River Ranger District Office, 671 N Washington St, Afton WY 83110. Please call ahead to 307.886.5300 to facilitate entry into the building to view comments.

FOR FURTHER INFORMATION CONTACT: Adam Mendonca, Greys River District Ranger, Bridger-Teton National Forest; 307.886.5310 or amendonca@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The meeting is open to the public. The following business will be conducted: (1) Discuss proposed projects. (2) Vote on proposed projects. (3) Public comment. Anyone who would like to bring related matters to the attention of the Committee may file written statements with the Committee staff before the meeting. Written comments must be sent to Greys River Ranger District Office, 671 N Washington St, Afton WY 83110, or by email to amendonca@fs.fed.us, or via facsimile to 307.886.5339 by 4:30 p.m. on September 12, 2012. A summary of the meeting will be posted at https://fsplaces.fs.fed.us/fsfiles/unit/wo/secure_rural_schools.nsf/Web_Agendas?OpenView&Count=1000&RestrictToCategory=Bridger-Teton within 21 days of the meeting.

Meeting Accommodations: If you require sign language interpreting, assistive listening devices or other reasonable accommodation please request this in advance of the meeting by contacting the person listed in the section titled For Further Information Contact. All reasonable accommodation requests are managed on a case by case basis.

Dated: August 30, 2012.
Martha Williamson,
Acting Kemmerer District Ranger.

[FR Doc. 2012-22067 Filed 9-6-12; 8:45 am]

BILLING CODE 3410-11-P